ENVIRONMENTAL PROTECTION AGENCY

[EPA-HQ-OAR-2011-0135; FRL-9976-25-OAR]

Proposed Information Collection Request Renewal; Comment Request; Recordkeeping and Reporting Requirements Regarding the Sulfur Content of Motor Vehicle Gasoline, Gasoline Additives, Denatured Fuel Ethanol and Other Oxygenates, Certified Ethanol Denaturant, and Blender-Grade Pentane

AGENCY: Environmental Protection Agency (EPA).

ACTION: Notice.

SUMMARY: The Environmental Protection Agency (EPA) is planning to submit an information collection request (ICR), “Recordkeeping and Reporting Requirements Regarding the Sulfur Content of Motor Vehicle Gasoline, Gasoline Additives, Denatured Fuel Ethanol and Other Oxygenates, Certified Ethanol Denaturant, and Blender-Grade Pentane” (EPA ICR No.1907.07, OMB Control No. 2060-0437) to the Office of Management and Budget (OMB) for review and approval in accordance with the Paperwork Reduction Act (PRA) (44 U.S.C. 3501 et seq.). Before doing so, EPA is soliciting public comments on specific aspects of the proposed information collection as described below. This is a proposed extension of the ICR, which is currently approved through May 31, 2018. An Agency may not conduct or sponsor and a person is not required to respond to a collection of information unless it displays a currently valid OMB control number.

DATES: Comments must be submitted on or before June 11, 2018.

ADDRESSES: Submit your comments, referencing Docket ID No. EPA-HQ-OAR-2011-0135, online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Thomas Boylan, Fuels Compliance Policy Center, Environmental Protection Agency, 1200 Pennsylvania Ave. NW, 6405A, Washington, DC 20460; telephone number: 202-564-1075; fax number: 202-565-2085; email address: boylan.thomas@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The requirements covered under this ICR are included in the Tier 3 Final Rule (79 FR 23414, April 28, 2014). The scope of the recordkeeping and reporting requirements for each party in the gasoline, gasoline additive, oxygenate, certified ethanol denaturant, and blender-grade pentane distribution systems, and therefore the cost to that party, reflects the party's opportunity to create, control or alter the product's sulfur content. As a result, petroleum refiners/importers, gasoline additive producers/importers, oxygenate producers/importers, certified ethanol denaturant producers/importers, and blender-grade pentane producers and importers have more significant requirements, which are necessary both for their own tracking and that of downstream parties, and for EPA enforcement. The Tier 3 program contains recordkeeping and reporting requirements that apply to gasoline additive manufacturers, oxygenate producers/importers, blender-grade pentane producers/importers, and producers/importers of certified ethanol denaturants that are used to produce denatured fuel ethanol. In large part these requirements are consistent with common business practices.

Form Numbers

OMB control No. | EPA form ID | EPA form No.
2060-0437 | GSF0302 | 5900-312
2060-0437 | GSF0402 | 5900-321
2060-0437 | RFG1800 | 5900-345
2060-0437 | RFG1900 | 5900-346
2060-0437 | RFG2600 | 5900-347

Respondents/affected entities: Gasoline Refiners/Importers, Oxygenate Producers, Oxygenate Blenders, Gasoline Additive Manufacturers, Certified Ethanol Denaturant Producers, Butane and Pentane Manufacturers.

Respondent's obligation to respond: Mandatory.

Estimated number of respondents: 3,953 (total).

Frequency of response: Annually, monthly, and on occasion.

Total estimated burden: 55,656 hours (per year). Burden is defined at 5 CFR 1320.03(b).

Total estimated cost: $4,354,200 (per year), includes no annualized capital or operation & maintenance costs.

Changes in Estimates: There is an increase from approximately 60,000 responses to approximately 520,000 due to a more comprehensive understanding of the scale of the oxygenate production and importation industry. Despite this growth in responses, total burden hours decreased from 65,000 to 56,000 and costs increased only slightly from $4.30 million to $4.35 million due to Agency experience in implementing the Tier 3 gasoline sulfur program and updated industry wage data, respectively.

Dated: March 23, 2018.
Byron J. Bunker,
Director, Compliance Division, Office of Transportation and Air Quality, Office of Air and Radiation.

[FR Doc. 2018-07361 Filed 4-9-18; 8:45 am]

BILLING CODE 6560-50-P